DEPARTMENT OF ENERGY

Federal Energy Regulatory Commission

Notice of Effectiveness of Exempt Wholesale Generator Status

Beacon Solar 1, LLC | EG16-90-000
Beacon Solar 3, LLC | EG16-91-000
Beacon Solar 4, LLC | EG16-92-000
Rio Bravo Solar I, LLC | EG16-93-000
Rio Bravo Solar II, LLC | EG16-94-000
Wildwood Solar II, LLC | EG16-95-000
Marshall Solar, LLC | EG16-96-000
River Bend Solar, LLC | EG16-97-000
Paulding Wind Farm III LLC | EG16-98-000
Lindahl Wind Project, LLC | EG16-99-000
Chisholm View Wind Project II, LLC | EG16-100-000
Drift Sand Wind Project, LLC | EG16-101-000
Aurora Generation, LLC | EG16-102-000
Tropico, LLC | EG16-103-000
Nicolis, LLC | EG16-104-000
Portal Ridge Solar B, LLC | EG16-105-000
63SU 8ME LLC | EG16-106-000
Eastern Shore Solar, LLC | EG16-107-000
Deepwater Wind Block Island, LLC | EG16-108-000

Take notice that during the month of July 2016, the status of the above-captioned entities as Exempt Wholesale Generators became effective by operation of the Commission's regulations. 18 CFR 366.7(a).

Dated: August 8, 2016.
Nathaniel J. Davis, Sr.,
Deputy Secretary.

[FR Doc. 2016-19328 Filed 8-12-16; 8:45 am]

BILLING CODE 6717-01-P